DEPARTMENT OF HOMELAND SECURITY

Coast Guard

33 CFR Part 165

[Docket Number USCG-2024-1062]

RIN 1625-AA00

Safety Zone; Lake Erie, Avon Lake, OH

AGENCY: Coast Guard, DHS.

ACTION: Temporary final rule.

SUMMARY: The Coast Guard is establishing a temporary safety zone for navigable waters of Lake Erie within a 750-yard radius of the Avon Lake Power Plant (located at position 41°30′15″ N 082°03′14″ W). The safety zone is needed to protect personnel, vessels, and the marine environment from potential hazards created by demolition activities at the Avon Lake Power Plant in Avon Lake, Ohio. Entry of vessels or persons into this zone is prohibited unless specifically authorized by the Captain of the Port, Sector Eastern Great Lakes.

DATES: This rule is effective on December 19, 2024, from 5 a.m. to 5:30 p.m. with a back-up date of December 20, 2024, from 5 a.m. to 5:30 p.m. in the event weather is unfavorable on December 19, 2024.

ADDRESSES: To view documents mentioned in this preamble as being available in the docket, go to https://www.regulations.gov, type USCG-2024-0678 in the search box and click “Search.” Next, in the Document Type column, select “Supporting & Related Material.”

FOR FURTHER INFORMATION CONTACT: If you have questions about this proposed rulemaking, call or email Cody Mayrer at Marine Safety Unit Cleveland's Waterways Management Division, U.S. Coast Guard; telephone 216-937-0111, email D09-SMB-MSUCLEVELAND-WWM@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

The Coast Guard is issuing this temporary rule under authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this rule because of limited advance notice provided by the contractor and because the Coast Guard must establish this safety zone by December 19, 2024 in order to protect personnel, vessels, and the marine environment from potential hazards created by the demolition activities at the Avon Lake Power Plant in Avon Lake, Ohio.

Also, under 5 U.S.C. 553(d)(3), the Coast Guard finds that good cause exists for making this rule effective less than 30 days after publication in the Federal Register due to limited advance notice provided by the contractor and because the Coast Guard must establish this safety zone by December 19, 2024 in order to protect personnel, vessels, and the marine environment from potential hazards created by the demolition activities at the Avon Lake Power Plant in Avon Lake, Ohio.

III. Legal Authority and Need for Rule

The Coast Guard is issuing this rule under authority in 46 U.S.C. 70034, 70051; 70124, 33 CFR 1.05-1, 6.04-1, 6.04-6, and 160.5; Department of Homeland Security Delegation No. 00170.1, Revision No. 01.3. The Captain of the Port Eastern Great Lakes has determined that a temporary safety zone for navigable waters within a 750-yard radius of the Avon Lake Power Plant (located at position 41°30′15″ N 082°03′14″ W) is needed to protect personnel, vessels, and the marine environment from potential hazards created by demolition activities at the Avon Lake Power Plant in Avon Lake, Ohio. Entry of vessels or persons into this zone is prohibited unless specifically authorized by the Captain of the Port, Sector Eastern Great Lakes or a designated representative.

IV. Discussion of the Rule

This rule establishes a safety zone from December 19, 2024, from 5:00 a.m. to 5:30 p.m. with a back-up date of December 20, 2024, from 5:00 a.m. to 5:30 p.m. in the event that weather is unfavorable on December 19, 2024. The safety zone will cover all navigable waters on Lake Erie within a 750-yard radius of the Avon Lake Power Plant (located at position 41°30′15″ N 082°03′14″ W). All geographic coordinates are North American Datum of 1983 (NAD 1983). The safety zone is needed to protect personnel, vessels, and the marine environment from potential hazards created by demolition activities at the Avon Lake Power Plant in Avon Lake, Ohio. No vessel or person will be permitted to enter the safety zone without obtaining permission from the COTP or a designated representative.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on the need to protect personnel, vessels, and the marine environment from potential hazards created by demolition activities at the Avon Lake Power Plant in Avon Lake, Ohio. This safety zone is also for only 12.5 hours in a limited area along the shore of Lake Erie. Moreover, vessels can still transit through the safety zone with the permission of the COTP or a designated representative.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves a safety zone lasting 12.5 hours that will prohibit entry within a 750-yard radius of the Avon Lake Power Plant (Located at Position 41°30′15″ N 082°03′14″ W). It is categorically excluded from further review under paragraph L60a of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places, or vessels.

List of Subjects in 33 CFR Part 165

Harbors, Marine safety, Navigation (water), Reporting and recordkeeping requirements, Security measures, Waterways.

For the reasons discussed in the preamble, the Coast Guard amends 33 CFR part 165 as follows:

PART 165— REGULATED NAVIGATION AREAS AND LIMITED ACCESS AREAS

1. The authority citation for part 165 continues to read as follows:

Authority: 46 U.S.C. 70034, 70051; 70124, 33 CFR 1.05-1, 6.04-1, 6.04-6, and 160.5; Department of Homeland Security Delegation No. 00170.1, Revision No. 01.3.

2. § 165.T09-1062 will read as follows:

§ 165.T09-1062 Safety Zone; Avon Lake Power Plant Demolition, Lake Erie, Avon Lake, OH.

(a) Location period: The following area is a temporary safety zone: All U.S. Navigable waters of Lake Erie within a 750-yard radius of the Avon Lake Power Plant in Avon Lake, Ohio located at the following position: 41°30′15″ N 082°03′14″ W. All geographic coordinates are North American Datum of 1983 (NAD 1983).

(b) Enforcement period: The Coast Guard will enforce the safety zone described in paragraph (a) of this section from December 19, 2024, from 5: a.m. to 5:30 p.m. with a back-up date will be December 20, 2024, from 5: a.m. to 5:30 p.m. in the event weather is unfavorable on December 19, 2024. The Captain of the Port Sector Eastern Great Lakes (COTP) will announce specific enforcement periods by Broadcast Notice to Mariners. The COTP, or a designated representative may suspend enforcement of the safety zone at any time.

(c) Definitions: As used in this section, designated representative means a Coast Guard Patrol Commander, including a Coast Guard coxswain, petty officer, or other officer operating a Coast Guard vessel and a Federal, State, and local officer designated by or assisting the COTP in the enforcement of the safety zone.

(d) Regulations: (1) In accordance with the general regulations in § 165.23, entry into, transiting, or anchoring within the safety zone described in paragraph (a) of this section is prohibited unless authorized by the COTP or his designated representative.

(2) Vessel operators desiring to enter or operate within the safety zone shall contact the COTP Sector Eastern Great Lakes or his designated representative to obtain permission to do so. Vessel operators given permission to enter or operate in the safety zone must comply with all directions given to them by the COTP or his designated representative. The COTP or his designated representative may be contacted via VHF Channel 16 or by calling (888) 230-4703.

Dated: December 9, 2024.
M.I. Kuperman,
Captain, U.S. Coast Guard, Captain of the Port Eastern Great Lakes.

[FR Doc. 2024-29510 Filed 12-13-24; 8:45 am]

BILLING CODE 9110-04-P